DEPARTMENT OF DEFENSE

Department of the Army

Notice of Availability of a Novel UV Emitting Device for Exclusive, Partially Exclusive or Non-Exclusive Licenses

AGENCY: Department of the Army, DoD.

ACTION: Notice of availability.

SUMMARY: The Department of the Army announces the general availability of exclusive, partially exclusive or non-exclusive licenses relative to a novel ultraviolet light emitting device as described in U.S. Patent Applications 11/376,453, Ultraviolet Light Emitting AlGaN Composition and Ultraviolet Light Emitting Device Containing Same and 11/376,452 Method of Manufacturing an Ultraviolet Light Emitting AlGaN Composition and Ultraviolet Light Emitting Device Containing Same. Any license shall comply with 35 U.S.C. 209 and 37 CFR 404.

FOR FURTHER INFORMATION CONTACT: Michael D. Rausa, U.S. Army Research Laboratory, Office of Research and Technology Applications, ATTN: AMSRD-ARL-DP-P/Bldg. 434, Aberdeen Proving Ground, MD 21005-5425, Telephone: (410) 278-5028.

SUPPLEMENTARY INFORMATION: None.

Brenda S. Bowen,
Army Federal Register Liaison Officer.

[FR Doc. E8-9458 Filed 4-29-08; 8:45 am]

BILLING CODE 3710-08-P